DEPARTMENT OF ENERGY

Federal Energy Regulatory Commission

Notice of Chairman's Participation in Congressional Hearing on Pending Matters

February 15, 2002.

Take notice that there will be a Congressional hearing before the Subcommittee on Energy Policy, Natural Resources and Regulatory Affairs of the House of Representatives' Committee on Government Reform on February 22, 2002 at which Pat Wood III, Chairman, Federal Energy Regulatory Commission, will testify. The hearing will be held at 9:00 a.m. at the Sacramento County Board of Supervisors Chambers, 700 H Street, Sacramento, California.

The scope of the hearing includes the performance of the California Independent System Operator and wholesale electric energy market design in the State of California and nationally. During the course of this hearing, it is possible that discussion may overlap with issues pending in the dockets listed in the attached appendix. A transcript of the hearing will be placed in the dockets listed in the attached appendix if appropriate.

Magalie R. Salas,
Secretary.

Appendix

Docket Nos. EL01-35-000, Mirant Delta, LLC and Mirant Potrero LLC, v. California Independent System Operator Corp.,

Docket Nos. EL00-95-000, San Diego Gas & Electric Company v. Sellers of Energy and Ancillary Services into Markets Operated by the California Independent System Operator and the California Power Exchange

Docket No. EL00-98-000, Investigation into Practices of the California Independent System Operator and the California Power Exchange

Docket No. RT01-85-000, California Independent System Operator Corp.

Docket No. RT01-82-000, California Independent System Operator Corp., et al.

Docket No. RT01-83-000, California Independent System Operator Corp., et al.

Docket No. RT01-92-000, California Independent System Operator Corp., et al.

Docket No. EL01-68-000, Investigation of Wholesale Rates of Public Utility Sellers of Energy and Ancillary Services in the Western Systems Coordinating Council

Docket No. PA02-1-000, Operational Audit of the California Independent System Operator Corp.

Docket No. ER02-651-000, California Independent System Operator Corp.

Docket No. ER01-889-000, California Independent System Operator Corp.

Docket No. EL02-48-000, California Power Exchange Corporation

Docket No. EL02-51-000, California Electricity Oversight Board v. Williams Energy Services Corp., et al.,

Docket No. ER99-3301-000, California Independent System Operator Corp,

Docket No. ER00-2019-000, California Independent System Operator Corp.

Docket No. ER00-1365-000, California Independent System Operator Corp.

Docket No. EL01-23-000, Dynegy Power Marketing, Inc. v. California Independent System Operator Corp.

Docket No. ER98-997-000, et al., California Independent System Operator Corp

Docket No. ER98-495-000, et al., Pacific Gas and Electric Company

Docket Nos. ER99-2730-000 and EL99-67-000, California Independent System Operator Corp.

Docket No. ER99-896-000, California Independent System Operator Corp.

Docket No. ER98-3760-000, et al., California Independent System Operator Corp

Docket No. RM01-12-000, Electricity Market Design and Structure

[FR Doc. 02-4485 Filed 2-25-02; 8:45 am

BILLING CODE 6717-01-P